DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301)-443-1129.

The following request has been submitted to the Office of Management and Budget for review under the Paperwork Reduction Act of 1995:

Proposed Project: HRSA Competing Training Grant Application, Instructions and Relating Regulations (OMB No. 0915-0060)—Revision—The Bureau of Health Professions (BHPr), Health Resources and Services Administration (HRSA) operates and administers training grant programs authorized under Titles VII and VIII of the Public Health Service (PHS) Act. HRSA uses the information in the application to determine the eligibility of applicants for awards, to calculate the amount of each award and to judge the relative merit of applications. The application contains a basic set of general instructions as well as program-specific instructions which includes the detailed description of the project. The budget is negotiated for all years of the project period based on this application.

The burden estimate is as follows:

Form | Number of respondents | Response per respondent | Total responses | Hours per response | Total burden hours
Progress Report | 1,805 | 1 | 1,805 | 56.25 | 101,531

Written comments and recommendations concerning the proposed information collection should be sent within 30 days of this notice to: Allison Eyte, Human Resources and Housing Branch, Office of Management and Budget, New Executive Office Building, Room 10235, Washington, DC 20503, Fax Number 202-395-4650.

Dated: June 17, 2003.
Jane M. Harrison,
Director, Division of Policy Review and Coordination.

[FR Doc. 03-15818 Filed 6-23-03; 8:45 am]

BILLING CODE 4165-15-P